DEPARTMENT OF COMMERCE

International Trade Administration

[A-570-863]

Honey From the People's Republic of China: Initiation of New Shipper Antidumping Duty Reviews

AGENCY: Import Administration, International Trade Administration, Department of Commerce.

ACTION: Initiation of new shipper antidumping duty reviews.

EFFECTIVE DATE: February 5, 2003.

FOR FURTHER INFORMATION CONTACT: Angelica Mendoza or Donna Kinsella at (202) 482-3019 or (202) 482-0194, respectively; Antidumping and Countervailing Duty Enforcement Group III, Import Administration, International Trade Administration, U.S. Department of Commerce, 14th Street and Constitution Avenue, NW., Washington, DC 20230.

SUPPLEMENTARY INFORMATION:

The Applicable Statute

Unless otherwise indicated, all citations to the statute are references to the provisions effective January 1, 1995, the effective date of the amendments made to the Tariff Act of 1930, as amended (the Act) by the Uruguay Round Agreements Act (URAA). In addition, unless otherwise indicated, all citations to the Department's regulations are references to the provisions codified at 19 CFR Part 351 (2002).

Background

The Department received timely requests from Shanghai Xiuwei International Trading Co., Ltd. (Shanghai Xiuwei) and Sichuan-Dujiangyan Dubao Bee Industrial Co., Ltd. (Sichuan Dubao),¹ in accordance with 19 CFR 351.214(c), for new shipper reviews of the antidumping duty order on honey from the People's Republic of China (PRC), which has a December annual anniversary month. See Notice of Amended Final Determination of Sales at Less Than Fair Value and Antidumping Duty Order; Honey from the People's Republic of China, 66 FR 63670 (December 10, 2001). Shanghai Xiuwei identified itself as an exporter of honey produced by its supplier, Henan Oriental Bee Products Co., Ltd. (Henan Oriental). Sichuan Dubao identified itself as the producer of the honey it exports. As required by 19 CFR 351.214(b)(2)(i), (ii), and (iii)(A), each company identified above has certified that it did not export honey to the United States during the period of investigation (POI), and that it has never been affiliated with any exporter or producer which did export honey during the POI. Each company has further certified that its export activities are not controlled by the central government of the PRC, satisfying the requirements of 19 CFR 351.214(b)(2)(iii)(B). Pursuant to the Department's regulations at 19 CFR 351.214(b)(2)(iv), Shanghai Xiuwei and Sichuan Dubao submitted documentation establishing the date on which they first shipped the subject merchandise to the United States, the volume of that first shipment, and the date of the first sale to an unaffiliated customer in the United States.

¹ On January 23, 2003, the Department rescinded a previous new shipper review of Sichuan Dubao initiated on July 31, 2002 because Sichuan Dubao's certifications failed to identify the correct name of the exporter and producer of the subject merchandise. Sichuan Dubao therefore submitted the instant new shipper review request, which correctly identifies the exporter and producer of the subject merchandise.

In accordance with section 751(a)(2)(B) of the Act, as amended, and 19 CFR 351.214(d)(1), and based on information on the record, we are initiating new shipper reviews for Shanghai Xiuwei and Sichuan Dubao. It is the Department's usual practice in cases involving non-market economies to require that a company seeking to establish eligibility for an antidumping duty rate separate from the country-wide rate provide evidence of de jure and de facto absence of government control over the company's export activities. Accordingly, we will issue questionnaires to Shanghai Xiuwei and Sichuan Dubao, including a separate rates section. If the responses provide sufficient indication that Shanghai Xiuwei and Sichuan Dubao are not subject to either de jure or de facto government control with respect to their exports of honey, the review will proceed. If, on the other hand, Shanghai Xiuwei and Sichuan Dubao do not demonstrate their eligibility for a separate rate, then they will be deemed not separate from other companies that exported during the POI and the review of that respondent will be rescinded.²

² We note that petitioners separately requested administrative reviews of Shanghai Xiuwei and Sichuan Dubao. If for any reason the Department rescinds the new shipper reviews of Shanghai Xiuwei and/or Sichuan Dubao, we will then include Shanghai Xiuwei and/or Sichuan Dubao in the normal administrative review.

Scope

The merchandise under review is honey from the PRC. The merchandise under review is currently classifiable under item 0409.00.00, 1707.90.90 and 2106.90.99 of the Harmonized Tariff Schedule of the United States (HTSUS). Although the HTSUS subheading is provided for convenience and customs purposes, the written description of the merchandise under review is dispositive.

Initiation of Review

In accordance with section 751(a)(2)(B)(ii) of the Act and 19 CFR 351.214(d)(1), we are initiating new shipper reviews of the antidumping duty order on honey from the PRC. Therefore, we intend to issue the preliminary results of these reviews not later than 180 days after the date on which these reviews were initiated. We intend to issue the final results of these reviews within 90 days after the date on which the preliminary results were issued.

Pursuant to 19 CFR 351.214(g)(1)(ii)(A) of the Department's regulations, the period of review (POR) for a new shipper review initiated in the month immediately following the first anniversary month will be the period from the date of suspension of liquidation to the end of the month immediately preceding the first anniversary month.³ Therefore, the POR for these new shipper reviews is:

³ The review period for Shanghai Xiuwei and Sichuan Dubao is February 10, 2001, through November 30, 2002 because the Department found critical circumstances in the underlying investigation, and liquidation was suspended beginning 90 days prior to the publication of the preliminary less than fair value determination, which occurred on May 11, 2001.

Antidumping duty proceeding | Period to be reviewed
Shanghai Xiuwei International Trading Co., Ltd. | 2/10/01—11/30/02
Sichuan-Dujiangyan Dubao Bee Industrial Co., Ltd. | 2/10/01—11/30/02

We will instruct the Customs Service to allow, at the option of the importer, the posting, until the completion of the review, of a single entry bond or security in lieu of a cash deposit for certain entries of the merchandise exported by the above-listed companies. This action is in accordance with 19 CFR 351.214(e). As Sichuan Dubao has certified that it both produced and exported the subject merchandise, we will instruct Customs to limit Sichuan Dubao's bonding option only to such merchandise for which it is both the producer and exporter. For Shanghai Xiuwei, which has identified Henan Oriental as the producer of subject merchandise for the sale under review, we will instruct Customs to limit the bonding option only to entries of subject merchandise from Shanghai Xiuwei that were produced by Henan Oriental.

Interested parties that need access to proprietary information in these new shipper reviews should submit applications for disclosure under administrative protective orders in accordance with 19 CFR 351.305 and 351.306. This initiation and notice are in accordance with section 751(a) of the Act (19 U.S.C. 1675(a)) and 19 CFR 351.214(d).

Dated: January 30, 2003.
Joseph A. Spetrini,
Deputy Assistant Secretary for Import Administration, Group III.

[FR Doc. 03-2794 Filed 2-4-03; 8:45 am]

BILLING CODE 3510-DS-P